DEPARTMENT OF AGRICULTURE

Forest Service

Information Collection: Grey Towers Visitor Comment Card

AGENCY: Forest Service, USDA.

ACTION: Notice; request for comment.

SUMMARY: In accordance with the Paperwork Reduction Act of 1995 (44 U.S.C. Chapter 35), this notice announces the Forest Service's intent to request: (1) An extension from the Office of Management and Budget; and (2) to merge the currently approved information collection 0596-0222, “Grey Towers Visitor Comment Card” with 0596-0226, “Forest Service Generic Clearance for the Collection of Qualitative Feedback on Agency Service Delivery.”

DATES: Comments must be received in writing on or before May 20, 2013 to be assured of consideration. Comments received after that date will be considered to the extent practicable.

ADDRESSES: Comments concerning this notice should be addressed to Nicole Bernarsky, USDA Forest Service, Grey Towers National Historic Site, P.O. Box 188, Milford, PA 18337.

Comments also may be submitted via facsimile to (570) 296-9675, or by email to: nbernarsky@fs.fed.us

The public may inspect comments received at Grey Towers National Historic Site during normal business hours. Visitors are encouraged to call ahead to (570) 296-9630 to facilitate entry to the building.

FOR FURTHER INFORMATION CONTACT: Nicole Bernarsky, Grey Towers National Historic Site, (570) 296-9630.

Individuals who use telecommunication devices for the deaf (TDD) may call the Federal Relay Service (FRS) at 1-800-877-8339 twenty-four hours a day, every day of the year, including holidays.

SUPPLEMENTARY INFORMATION: Title: Grey Towers Visitor Comment Card.

OMB Number: 0596-0222.

Expiration Date of Approval: 6/30/2013.

Type of Request: Extension of a currently approved information collection.

Abstract: The collection of this information is necessary because it helps Grey Towers provide quality-based programs and events. Participants' input is vital, and this form allows participants to provide important feedback. The completion and subsequent evaluation of this form will ensure Grey Towers can continue to serve their stakeholders and the public in a service-oriented manner.

This information will be collected by administering a 8.5” x 11” form sheet to program or event participants at the conclusion of a program or event. The information will be used to further improve or otherwise change our programs and events, and track site attendance, site usage, and participant feedback. The Grey Towers Programs and Administrative Staff will analyze the collected information.

Estimate of Burden per response: 5 minutes .

Type of Respondents: Individuals.

Estimated Annual Number of Respondents: 750.

Estimated Annual Number of Responses per Respondent: 1.

Estimated Total Annual Burden on Respondents: 63 hours.

Comments are invited on: (1) Whether this collection of information is necessary for the stated purposes and the proper performance of the functions of the agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: March 14, 2013.
Paul Ries,
Associate Deputy Chief, State and Private Forestry.

[FR Doc. 2013-06367 Filed 3-19-13; 8:45 am]

BILLING CODE 3410-11-P